DEPARTMENT OF EDUCATION

Applications for New Awards; First in the World Program—Development Grants

AGENCY: Office of Postsecondary Education, Department of Education.

ACTION: Notice.

Overview Information

Fund for the Improvement of Postsecondary Education (FIPSE)—First in the World (FITW) Program—Development Grants

Notice inviting applications for new awards for fiscal year (FY) 2015.

Catalog of Federal Domestic Assistance (CFDA) Number: 84.116F.

Dates:

Applications Available: May 11, 2015.

Deadline for Transmittal of Applications: June 30, 2015.

Deadline for Intergovernmental Review: August 31, 2015.

Full Text of Announcement

I. Funding Opportunity Description

Purpose of Program: The FITW program is designed to support the development, replication, and dissemination of innovative solutions and evidence for what works in addressing persistent and widespread challenges in postsecondary education for students who are at risk for not persisting in and completing postsecondary programs, including, but not limited to, adult learners, working students, part-time students, students from low-income backgrounds, students of color, students with disabilities, and first-generation students. The focus of the FITW program is to build evidence for what works in postsecondary education by testing the effectiveness of these strategies in improving student persistence and completion outcomes.

For FY 2015, the Department will award two types of grants under this program: “Development” grants and “Validation” grants. These grants differ in terms of the level of evidence of effectiveness required for consideration of funding, the level of scale the funded project should reach, and, consequently, the amount of funding available to support the project.

This notice invites applications for Development grants only. Development grants will support new or substantially more effective practices for addressing widely shared challenges. Applications for Development grants must be based on Strong Theory (as defined in this notice). The Department has published a separate notice inviting applications for Validation grants elsewhere in this issue of the Federal Register.

Priorities: This notice contains three absolute priorities and one competitive preference priority.

These priorities are from the notice of final priorities, requirements, definitions, and selection criterion for this program (NFP), published elsewhere in this issue of the Federal Register.

Absolute Priorities: For FY 2015 and any subsequent year in which we make awards from the list of unfunded applications from this competition, these priorities are absolute priorities. Under 34 CFR 75.105(c)(3), we consider only applications that address one of the three absolute priorities. Applicants must specify on the Abstract and Information page of their applications which absolute priority is addressed in the application. For Absolute Priority 2 and Absolute Priority 3, we have identified multiple subparts. Applicants that address one of these absolute priorities must select one subpart that the proposed project will address to meet the absolute priority.

These priorities are:

Absolute Priority 1: Improving Teaching and Learning

The Secretary gives priority to:

Projects designed to improve teaching and learning through:

Instruction-level tools or strategies such as adaptive learning technology, educational games, personalized learning, active- or project-based learning, faculty-centered strategies that systematically improve the quality of teaching, or multi-disciplinary efforts focused on improving instructional experiences.

Note: A large percentage of students in postsecondary education struggle academically because they arrive to college unprepared for college-level coursework.¹ These struggles make the prospect of dropping out more likely.² Further, for students who do complete their courses and programs, the limited available information on learning proficiency suggests that too many students are lacking the critical thinking, analytical, and communication skills needed for the workforce.³ These challenges may be more acute for the types of students that now make up the majority of students enrolled in postsecondary education: Adult learners, working students, part-time students, students from low-income backgrounds, students of color, and first-generation students. On the other hand, the research base on cognitive science continues to grow, employers are becoming more specific in the competencies they desire, data analytics offers greater and more targeted insights, and new technologies offer the potential for new methods and more differentiated instruction.

¹ Xianglei Chen and others, Academic Preparation for College in the High School Senior Class of 2003-04: Education Longitudinal Study of 2002 (ELS: 2002), Base-year, 2002, First Follow-up, 2004, and High School Transcript Study, 2004 (Washington: U.S. Department of Education, National Center for Education Statistics, January 2010); Jay Greene and Greg Foster, “Public High School Graduation and College Readiness Rates in the United States,” Working Paper 3 (New York: Manhattan Institute, Center for Civic Information, Education, September 2003). Greene and Foster define being minimally “college ready” as: Graduating from high school, having taken four years of English, three years of mathematics, and two years of science, social science, and foreign language, and demonstrating basic literacy skills by scoring at least 265 points on the National Assessment of Educational Progress in reading.

² Eric Bettinger and Bridget Terry Long, “Addressing the Needs of Under-Prepared College Students: Does College Remediation Work?” Journal of Human Resources 44, no. 3 (2009); Brian Jacob and Lars Lefgren, “Remedial Education and Student Achievement: A Regression-Discontinuity Analysis,” Review of Economics and Statistics 86, no. 1 (2004): 226-44.

³ Arum, Richard and Roksa, Josipa, Academically Adrift: Limited Learning on College Campuses (University of Chicago Press, January 2011).

Despite these challenges and opportunities, innovations in how students experience learning in college remain largely small scale or limited to a small number of institutions. With some exceptions, the same degrees and other credentials are offered in the traditional ways, by counting numbers of courses taken or hours taught. Methods of teaching have stayed largely static, with the traditional lecture as the core instructional design. New approaches to teaching and learning, such as tools and strategies that go beyond the traditional lecture to support active learning, and that actively engage learners or customize learning, must be tested and expanded to more postsecondary institutions to improve accessibility and quality and reduce cost.

Absolute Priority 2: Developing and Using Assessments of Learning

The Secretary gives priority to:

Projects that support the development and use of externally validated assessments of student learning and stated learning goals through one of the following:

(a) Alternative assessment tools or strategies such as micro- or competency-based assessments, assessments embedded in curriculum, or simulations, games, or other technology-based assessment approaches.

(b) Aligning assessments across sectors and institutions, such as across kindergarten through grade 12 and postsecondary education systems or across two-year and four-year institutions, to improve college readiness and content delivery.

Note: Learning assessment has shown promise as an effective instructional strategy to increase student success. While learning assessment, in the past, focused more on traditional testing, current assessment has expanded to assess not just what students know but also what they can do, and is embedded in ways that inform instruction on an ongoing basis. Further, a knowledge-based economy requires assessment of higher-order thinking skills such as analysis, synthesis, and transfer; along with “non-cognitive” capacities such as mindset, persistence, and other qualities. New forms of assessments must be developed for these purposes and tested for their benefits to students. Assessments are also needed to measure what is learned outside the classroom, such as through previous work experience, workplace or community-based experiences, and other high impact engagements.

Absolute Priority 3: Facilitating Pathways to Credentialing and Transfer

The Secretary gives priority to:

Projects designed to develop and implement systems and practices to capture and aggregate credit or other evidence of knowledge and skills towards postsecondary degrees or credentials through one of the following:

(a) Seamless transfer of credits between postsecondary institutions; or

(b) Validation and transfer of credit for learning or learning experiences from non-institutional sources.

Note: Students obtain knowledge and skills through a variety of experiences and from a range of institutions and providers. Many postsecondary students attend more than one institution on their way to earning a certificate or degree. Further, many student learning experiences, such as learning that occurs through work experience or from non-traditional education providers, are simply not recognized.

Alternate systems and methods of assessing, aggregating, and credentialing learning experiences are needed to help more students reach completion in accelerated timeframes. Additionally, new systems of portable, stackable postsecondary degrees and credentials along transparent career pathways must be designed and opportunities to obtain such degrees and credential must be expanded.

Competitive Preference Priority: For FY 2015, this priority is a competitive preference priority. Under 34 CFR 75.105(c)(2)(i) we award up to an additional five points to an application, depending how well the application meets this priority. Applicants must clearly mark the Abstract and Information page in the application package if they intend to address this competitive preference priority.

Note: Given the limited resources of secondary schools, institutions of higher education, and other relevant stakeholders, the cost effectiveness of any intervention designed to improve student outcomes is of primary importance. In recent years, numerous institutions, researchers, and others have begun testing interventions that are relatively low cost but have the ability to have a high impact on student outcomes. Many of these interventions minimize cost through the use of technology, such as digital messaging or predictive analytics to target interventions. Others incorporate low cost approaches, such as non-cognitive interventions. We are particularly interested in effective low cost interventions because even institutions with limited resources would be able to scale such strategies to impact large numbers of students, and, such interventions, particularly those that use technology, are often easily replicable.

This priority is:

Implementing Low Cost-High Impact Strategies To Improve Student Outcomes (Up to 5 Points)

The Secretary gives priority to projects that use low-cost tools or strategies, such as those that use technology, that result in a high impact on student outcomes.

The selection criteria for the FY 2015 Development competition are designed to ensure that applications selected for funding have the best potential to generate substantial improvements and research in student outcomes, and include well-articulated plans for the implementation, dissemination, and evaluation of the proposed projects. Applicants should review the selection criteria and submission instructions carefully to ensure their applications address this year's criteria.

Requirements: The following requirements are from the NFP and apply to all applications submitted under this competition:

(a) Innovations That Improve Outcomes for High-Need Students: Grantees must implement projects designed to improve one or more of the following outcomes of high-need students (as defined in this notice) in postsecondary education: Persistence, academic progress, time to degree or and completion.

(b) Evidence Standards: To be eligible for an award, an application for a Development grant must be supported by Strong theory (as defined in 34 CFR 77.1(c)).

(c) Independent Evaluation:

(i) The grantee must conduct an Independent Evaluation (as defined in this notice) of its project. The evaluation must estimate the impact of the FITW-supported practice (as implemented at the proposed level of scale) on a relevant outcome (as defined in 34 CFR 77.1(c)).

(ii) The grantee must make broadly available, digitally and free of charge, through formal (e.g., peer-reviewed journals) or informal (e.g., newsletters) mechanisms, the results of any evaluations it conducts of its funded activities. The grantee must also ensure that the data from its evaluation are made available to third-party researchers consistent with applicable privacy requirements.

(iii) The grantee and its independent evaluator must agree to cooperate on an ongoing basis with any technical assistance provided by the Department or its contractor, including any technical assistance provided to ensure that the evaluation design meets the required evaluation standards, and comply with the requirements of any evaluation of the program conducted by the Department. This includes providing to the Department, within 100 days of a grant award, an updated comprehensive evaluation plan in a format and using such tools as the Department may require. Grantees must update this evaluation plan at least annually to reflect any changes to the evaluation and provide the updated evaluation plan to the Department. All of these updates must be consistent with the scope and objectives of the approved application.

(d) Funding Categories: An applicant will be considered for an award only for the type of FITW grant (Development or Validation) for which it applies. Applicants may not apply for a FITW competition in which they currently have an active FITW grant. An applicant may submit only one FITW application in FY 2015.

(e) Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project and provide the updated management plan to the Department.

Definitions:

The following definitions are from the NFP and from 34 CFR 77.1 and apply to the priorities, requirements, and selection criteria in this notice:

High-need student means a student at risk of educational failure or otherwise in need of special assistance and support such as adult learners, working students, part-time students, students from low-income backgrounds, students of color, first-generation students, students with disabilities, and students who are English learners. (Note: The Department does not limit the definition of high-need students to this list. This list is illustrative and may include other categories of high-need students).

Independent evaluation means an evaluation that is designed and carried out independent of and external to the grantee, but in coordination with any employees of the grantee who develop a process, product, strategy, or practice and are implementing it.

Logic model (also referred to as a theory of action) means a well-specified conceptual framework that identifies key components of the proposed process, product, strategy, or practice (i.e., the active “ingredients” that are hypothesized to be critical to achieving the relevant outcomes) and describes the relationship among the key components and outcomes, theoretically and operationally.

Minority-serving institution means an institution that is eligible to receive assistance under sections 316 through 320 of part A of Title III, under part B of Title III, or under Title V of the HEA.

Nonprofit, as applied to an agency, organization, or institution, means that it is owned and operated by one or more corporations or associations whose net earnings do not benefit, and cannot lawfully benefit, any private shareholder or entity.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations.

Relevant outcome means the student outcome(s) (or the ultimate outcome if not related to students) the proposed process, product, strategy, or practice is designed to improve, consistent with the specific goals of a program.

Strong theory means a rationale for the proposed process, product, strategy, or practice that includes a logic model.

What Works Clearinghouse evidence standards means the standards set forth in the What Works Clearinghouse Procedures and Standards Handbook (Version 3.0, March 2014), which can be found at the following link: http://ies.ed.gov/ncee/wwc/DocumentSum.aspx?sid=19.

Program Authority: 20 U.S.C. 1138-1138d.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The NFP.

Note: The regulations in 34 CFR part 86 apply to institutions of higher education only.

II. Award Information

Type of Award: Discretionary grants.

Estimated Available Funds: $60,000,000 total for the FITW program, with up to $16,000,000 set aside for Minority-Serving Institutions (MSIs), in accordance with the Joint Explanatory Statement accompanying the Consolidated and Further Continuing Appropriations Act of 2015. In implementing this set aside, the Department may fund high-quality applications from MSIs out of rank order in the competition for Development grants, Validation grants or in both competitions. We plan to allocate at least $20 million for Development grants but the actual amount will depend on the quality of the proposals for both competitions.

Contingent upon the availability of funds and the quality of applications, we may make additional awards in FY 2016 or later years from the list of unfunded applicants from this competition.

Estimated Range of Awards: $1,000,000 to $3,000,000.

Estimated Average Size of Awards: $2,000,000.

Maximum Award: We will not fund any application that proposes a budget exceeding $3,000,000 for a single budget period of 48-months. The Assistant Secretary for Postsecondary Education may change the maximum amount through a notice published in the Federal Register.

Estimated Number of Awards: 6 to 8.

Note: The Department is not bound by any estimates in this notice.

Project Period: 48 months.

III. Eligibility Information

1. Eligible Applicants: Institutions of higher education, combinations of such institutions, and other public and private nonprofit institutions and agencies.

To qualify as an eligible MSI under the FITW Program, an institution of higher education must meet one of two criteria:

The first criterion includes: Current eligibility approval as defined by the Department's FY 2015 eligibility process for Title III and/or Title V of the Higher Education Act of 1965, as amended; an open grant under one of the Department's Title III, Parts A and F and/or Title V programs; or a designation as a Historically Black College or University or a Tribally Controlled College.

The second criterion includes: Specific enrollment percentages for minority students served; and, if applicable, needy student and educational and general expenditure criteria for determining income eligibility.

More information on MSI eligibility is in the application package under the section entitled Eligibility. The Department will screen the applications to verify MSI eligibility based on these criteria and, if applicable, will use the most recent Integrated Postsecondary Education Data System data. In the event an application does not qualify for MSI eligibility, it will still be reviewed.

2. Cost Sharing or Matching: This program does not require cost sharing or matching.

IV. Application and Submission Information

1. Address to Request Application Package: You can obtain an application package via the Internet or from the Education Publications Center (ED Pubs).

To obtain a copy via the Internet, use the following address: www.ed.gov/fund/grant/apply/grantapp/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You also can contact ED Pubs at its Web site: www.EDPubs.gov or at its email address: edpubs@inet.ed.gov.

If you request an application from ED Pubs, be sure to identify this program as follows: CFDA number 84.116F.

Individuals with disabilities can obtain a copy of the application package in an accessible format (e.g., braille, large print, audiotape, or compact disc) by contacting the person listed under FOR FURTHER INFORMATION CONTACT in section VII of this notice.

2. Content and Form of Application Submission: Requirements concerning the content of an application, together with the forms you must submit, are in the application package for this competition.

Page Limit: The application narrative is where you, the applicant, address the selection criteria and the competitive preference priority that reviewers use to evaluate your application. You must limit the section of the application narrative that addresses:

• The selection criteria to no more than 30 pages, and

• The competitive preference priority to no more than 2 pages.

Accordingly, under no circumstances may the application narrative exceed 32 pages.

Please include a separate heading for the competitive preference priority if you choose to address it.

For purposes of determining compliance with the 32-page limit, each page on which there are words will be counted as one full page. Applicants must use the following standards:

• A “page” is 8.5″ x 11″, on one side only, with 1″ margins at the top, bottom, and both sides.

• Double space (no more than three lines per vertical inch) all text in the application narrative, except titles, headings, footnotes, endnotes, quotations, references, and captions. Charts, tables, figures, and graphs in the application may be single spaced.

• Use a font that is either 12 point or larger or no smaller than 10 pitch (characters per inch). However, you may use a 10-point font in charts, tables, figures, graphs, footnotes, and endnotes.

• Use one of the following fonts: Times New Roman, Courier, Courier New, or Arial.

The 32-page limit does not apply to Part I, the cover sheet, the table of contents; Part II, the budget section, including the narrative budget justification; Part IV, the assurances and certifications; or Abstract and Information page, the resumes (three-page limit per resume), the citations or full studies, appendix, or letters of support.

If you include any attachments or appendices not specifically requested and required for the application, these items will be counted as part of the narrative for the purposes of the page limit.

3. Submission Dates and Times:

Applications Available: May 11, 2015.

Deadline for Transmittal of Applications: June 30, 2015.

Applications for grants under this competition must be submitted electronically using the Grants.gov Apply site (Grants.gov). For information (including dates and times) about how to submit your application electronically, or in paper format by mail or hand delivery if you qualify for an exception to the electronic submission requirement, please refer to section IV.7. Other Submission Requirements.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 31, 2015.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management:

To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at www2.ed.gov/fund/grant/apply/sam-faqs.html.

In addition, if you are submitting your application via Grants.gov, you must (1) be designated by your organization as an Authorized Organization Representative (AOR), and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the First in the World Program, CFDA number 84.116F, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the First in the World Program at www.Grants.gov. You must search for the downloadable application package for this competition by the CFDA number. Do not include the CFDA number's alpha suffix in your search (e.g., search for 84.116, not 84.116F).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Gary Thomas, First in the World, U.S. Department of Education, 1990 K Street NW., Room 6153, Washington, DC 20006-8544. FAX: (202) 502-7877.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: CFDA 84.116F, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: CFDA 84.116F, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The following selection criteria for this Development competition are from 34 CFR 75.210. The points assigned to each criterion are indicated in parentheses. We will award up to a total of 100 points to an application under the selection criteria.

A. Significance (Up to 20 Points)

The Secretary considers the significance of the proposed project. In determining the significance of the proposed project, the Secretary considers the following factors:

1. The potential contribution of the proposed project to increased knowledge or understanding of education problems, issues, or effective strategies.

2. The extent to which the proposed project involves the development or demonstration of promising new strategies that build on, or are alternatives to, existing strategies.

3. The potential replicability of the proposed project or strategies, including, as appropriate, the potential for implementation in a variety of settings.

B. Quality of the Project Design (Up to 30 Points)

The Secretary considers the quality of the design of the proposed project. In determining the quality of the design of the proposed project, the Secretary considers the following factors:

1. The extent to which the design of the proposed project is appropriate to, and will successfully address, the needs of the target population or other identified needs.

2. The extent to which the proposed project represents an exceptional approach to the priority or priorities established for the competition.

3. The extent to which there is a conceptual framework underlying the proposed research or demonstration activities and the quality of that framework.

C. Adequacy of Resources (Up to 20 Points)

The Secretary considers the adequacy of resources for the proposed project. In determining the adequacy of resources for the proposed project, the Secretary considers the following factors:

1. The adequacy of support, including facilities, equipment, supplies, and other resources, from the applicant organization or the lead applicant organization.

2. The extent to which the costs are reasonable in relation to the objectives, design, and potential significance of the proposed project.

3. The qualifications, including relevant training and experience, of the project director or principal investigator.

4. The qualifications, including relevant training and experience, of the key project personnel.

D. Quality of the Project Evaluation (Up to 30 Points)

The Secretary considers the quality of the evaluation to be conducted of the proposed project. In determining the quality of the evaluation, the Secretary considers the following factors:

1. The extent to which the goals, objectives, and outcomes to be achieved by the proposed project are specified and measurable.

2. The extent to which the methods of evaluation will, if well implemented, produce evidence about the project's effectiveness that would meet the What Works Clearinghouse Evidence Standards with reservations.

3. The extent to which the methods of evaluation will, if well-implemented, produce evidence about the project's effectiveness that would meet the What Works Clearinghouse Evidence Standards without reservations.

4. The qualifications, including relevant training and experience, of project consultants or subcontractors.

Note: Successful applications will be those that have an evaluation design that has the potential to meet the What Works Clearinghouse Evidence Standards with or without reservations. The What Works Clearinghouse Procedures and Standards Handbook describes in detail which types of study designs can meet WWC Evidence Standards with or without reservations including both quasi-experimental design studies and randomized controlled trials (as defined in this notice). The response to this selection criterion should include a description of the total unduplicated number of students involved in the project. The term project consultants include the person or firm conducting the independent evaluation (as defined in this notice). The applicant is encouraged to select an evaluator with experience in the design and management of evaluations designed to meet What Works Clearinghouse Evidence Standards.

We encourage eligible applicants to review the following technical assistance resources on evaluation:

(1) What Works Clearinghouse Procedures and Standards Handbook: http://ies.ed.gov/ncee/wwc/references/idocviewer/doc.aspx?docid=19&tocid=1; and

(2) IES/NCEE Technical Methods papers: http://ies.ed.gov/ncee/tech_methods/.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

Prior to making awards, we will screen applications submitted in accordance with the requirements in this notice to determine which applications meet the eligibility requirements. This screening process may occur at various stages of the application review process; applicants that are determined ineligible will not be considered further or be awarded a grant. For the application review process, we will use independent peer reviewers with varied backgrounds and professions in postsecondary education including college and university educators, researchers and evaluators, strategy consultants, grant makers and managers, and others with postsecondary education expertise. All reviewers will be thoroughly screened for conflicts of interest to ensure a fair and competitive review process.

For FITW Development grant applications the Department will use a two-tier review process to review and score eligible applications. Content reviewers will review and score eligible applications on the three selection criteria: A. Significance; B. Quality of the Project Design; and C. Adequacy of Resources. These reviewers will also review and score the applications which address the competitive preference priority. Eligible applications that score highly on these three selection criteria will have the remaining criterion, D. Quality of the Project Evaluation, reviewed and scored by a different panel of peer reviewers with evaluation expertise.

Finally, if there are two or more applications with the same final score and there are insufficient funds to fully support these applications, the Department will consider an equitable distribution of grants among geographic locations.

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

To ensure that the Federal investment of these funds has as broad an impact as possible and to encourage innovation in the development of new learning materials, FITW grantees will be required to license to the public all intellectual property (except for computer software source code, discussed below) created with the support of grant funds, including both new content created with grant funds and modifications made to pre-existing, grantee-owned content using grant funds. That license must be worldwide, non-exclusive, royalty-free, perpetual, irrevocable, and grant the public permission to access, reproduce, publicly perform, publicly display, adapt, distribute, and otherwise use the intellectual property referenced above (except for computer software source code, discussed below) for any purposes, conditioned only on the requirement that attribution be given to authors as designated. Further, the Department requires that all computer software source code developed or created with FITW funds will be released under an intellectual property license that allows others to freely use and build upon them.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department will use the following performance measures in assessing the successful performance of FIPSE's FITW grants:

(a) The extent to which funded projects are replicated (i.e., adopted or adapted by others).

(b) The extent to which projects are institutionalized and continued after funding.

(c) The extent to which the metrics used to assess and evaluate project results measure performance under the absolute priority the project is designed to address.

(d) The percentage of projects supported by FITW grants that produce evidence of their effectiveness (i.e., meet What Works Clearinghouse Evidence Standards with or without reservations) at improving student outcomes and college affordability, especially for low-income students.

(e) The percentage of projects supported by FITW grants that provide high-quality implementation data and performance feedback that allow for periodic assessment of progress toward achieving intended outcomes.

(f) The cost per student served by FITW grants.

(g) The cost per successful student outcome.

If funded, you will be asked to collect and report data from your project on steps taken toward achieving the outcomes evaluated by these performance measures. Consequently, applicants are advised to include these outcomes in conceptualizing the design, implementation, and evaluation of their proposed projects.

VII. Agency Contact

FOR FURTHER INFORMATION CONTACT: Gary Thomas, U.S. Department of Education, 1990 K Street NW., Room 6153, Washington, DC 20006-8544. Telephone: 202-502-7677. You may send emails to OPEFITWdevlopment@ed.gov.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: May 5, 2015.
Jamienne S. Studley,
Deputy Under Secretary.

[FR Doc. 2015-11336 Filed 5-8-15; 8:45 am]

BILLING CODE 4000-01-P